DEPARTMENT OF HOUSING AND URBAN DEVELOPMENT

[Docket No. FR-4980-N-20T]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzel, room 7622, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Ms. Kathryn M. Halvorson, Director, Air Force Real Property Agency, 1700 North Moore St., Suite 2300, Arlington, VA 2209-2802; (703) 696-5502; COE: Ms. Shirley Middleswarth, Army Corps of Engineers, Civil Division, Directorate of Real Estate, 441 G Street, NW, Washington, DC 20314-1000; (202) 761-7425; ENERGY: Mr. Andy Duran, Department of Energy, Office of Engineering & Construction Management, ME-90, 1000 Independence Ave, SW., Washington, DC 20585; (202) 586-4548; GSA: Mr. Biran K. Polly, Assistant Commissioner, General Services Administration, Office of Property Disposal, 18th and F Streets, NW., Washington, DC 20405; NAVY: Mr. Charles C. Cocks, Department of the Navy, Real Estate Policy Division, Naval Facilities Engineering Command, Washington Navy Yard, 1322 Patterson Ave., SE., Suite 1000, Washington, DC 20374-5065; (202) 685-9200; (These are not toll-free numbers).

Dated: May 12, 2005.
Mark R. Johnston,
Director, Office of Special Needs, Assistance Programs.

TITLE V, FEDERAL SURPLUS PROPERTY PROGRAM FEDERAL REGISTER REPORT FOR 5/20/2005

Suitable/Available Properties

Buildings (by State)

Colorado

Bunkhouse #3540

Forest Road 560

Section 32

Bailey Co: Park CO 80421-

Landholding Agency: GSA

Property Number: 54200520012

Status: Excess

Comment: 560 sq. ft., most recent use—storage, no sanitary facilities/potable water/power

GAS Number: 7-A-CO-0657

Georgia

Bldg. W0-3

West Point Lake

West Point Co: GA 31833-

Landholding Agency: COE

Property Number: 31200520001

Status: Unutilized

Comment: 7 x 7 gatehouse, off-site use only

Missouri

Social Security Building

123 Main Street

Joplin Co: Jasper MO 64801-

Landholding Agency: GSA

Property Number: 54200520013

Status: Excess

Comment: 10,322 sq. ft., needs repair, possible asbestos/lead paint, most recent use—office, tenants to relocate within two years

GSA Number: 7-G-MO-0674

South Dakota

Residence, Tract 139

101 Laurel Avenue

Oahe Dam/Lake Oahe Proj.

Pierre Co: SD 57501-

Landholding Agency: COE

Property Number: 31200520008

Status: Excess

Comment: 996 sq. ft., off-site use only

Residence, Tract 302

107 E. Main Street

Oahe Dam/Lake Oahe Proj.

Pierre Co: SD 57532-

Landholding Agency: COE

Property Number: 31200520009

Status: Excess

Comment: 1096 sq. ft., off-site use only

Residence, Trace 525

108 East 7th Ave.

Oahe Dam/Lake Oahe Proj.

Pierre Co: SD 57532-

Landholding Agency: COE

Property Number: 31200520010

Status: Excess

Comment: 1568 sq. ft., off-site use only

Suitable/Unavailable Properties

Land (by State)

New Mexico

Sites 69 & 70

Conchas Lake

San Miguel Co: NM

Landholding Agency: COE

Property Number: 31200520006

Status: Excess

Comment: ½ acre lots, closest town is approximately 32 miles away

Unsuitable Properties

Buildings (by State)

California

Bldg. 11237

Vandenberg AFB

Lompoc Co: Santa Barbara CA 93437-

Landholding Agency: Air Force

Property Number: 18200520001

Status: Unutilized

Reason: Secured Area

Bldgs. 4 & 15

Naval Submarine Base

Point Loma Co: CA

Landholding Agency: Navy

Property Number: 77200520014

Status: Unutilized

Reason: Extensive deterioration

Georgia

Pumphouse

Carters Lake

Oakman Co: GA 30732-

Landholding Agency: COE

Property Number: 31200520002

Status: Unutilized

Reason: Extensive deterioration

Bldgs. ASBC01, ASBC02

Asbury Park

Hartwell Co: GA 30643-

Landholding Agency: COE

Property Number: 31200520003

Status: Unutilized

Reason: Extensive deterioration

Hawaii

Bldg. 3389

Hickam AFB

Hickam Co: HI

Landholding Agency: Air Force

Property Number: 18200520002

Status: Unutilized

Reasons: Secured Area, Extensive deterioration

Idaho

Bldg. CF633

Idaho Natl Laboratory

Scoville Co: Butte ID 83415-

Landholding Agency: Energy

Property Number: 41200520005

Status: Excess

Reason: Extensive deterioration

Illinois

Bldg. 3101

Capital MAP, DCFT

Springfield Co: Sangamon IL 62707-

Landholding Agency: Air Force

Property Number: 18200520003

Status: Excess

Reasons: Within 2000 ft. of flammable or explosive material, Secured Area

Bldg. 144-147

FERMILAB

Batavia Co: DuPage IL 60510-

Landholding Agency: Energy

Property Number: 41200520003

Status: Excess

Reasons: Extensive deterioration

Bldg. 325C

Argonne National Laboratory

Argonne Co: DuPage IL 60439-

Landholding Agency: Energy

Property Number: 41200520004

Status: Excess

Reasons: Secured Area

Iowa

RTHBUN-79326

Buck Creek Park

Centerville Co: Appanoose IA 52544-

Landholding Agency: COE

Property Number: 31200520004

Status: Excess

Reasons: Extensive deterioration

Kansas

Bldgs. L37, L38

Lucas Park

Sylvan Grove Co: KS 67481-

Landholding Agency: COE

Property Number: 31200520005

Status: Excess

Reasons: Extensive deterioration

Mississippi

Bldg. 6

ANG CRTC

Gulfport Co. Harrison MS 39507-

Landholding Agency: Air Force

Property Number: 18200520004

Status: Unutilized

Reasons: Within 2000 ft. of flammable or explosive material, Secured Area

Bldgs. 19-22

ANG CRTC

Gulfport Co: Harrison MS 39507-

Landholding Agency: Air Force

Property Number: 18200520005

Status: Unutilized

Reasons: Within 2000 ft. of flammable or explosive material, Secured Area

Bldg. 38

ANG CRTC

Gulfport Co: Harrison MS 39507-

Landholding Agency: Air Force

Property Number: 18200520006

Status: Unutilized

Reasons: Within 2000 ft. of flammable or explosive material, Secured Area

Montana

Bldg. 546

Malmstrom AFB

Cascade Co: MT 59402-

Landholding Agency: Air Force

Property Number: 18200520007

Status: Unutilized

Reasons: Within 2000 ft. of flammable or explosive material, Secured Area

New York

Bldg. 276

106th RQW

Westhamton Beach Co: Suffolk NY 11978-

Landholding Agency: Air Force

Property Number: 18200520008

Status: Excess

Reason: Secured Area

South Carolina

Bldg. 277

McEntire Air National Station

Eastover Co: Richland SC 29044-

Landholding Agency: Air Force

Property Number: 18200520009

Status: Unutilized

Reasons: Secured Area, Extensive deterioration

Bldg. 5

J. Strom Thurmond Project

Clarks Hill Co: McCormick SC 29821-

Landholding Agency: COE

Property Number: 31200520007

Status: Unutilized

Reason: Extensive deterioration

Tennessee

17 Buildings

Naval Support Activity

Mid-South

Millington Co: TN 38054-

Location: 892-893, 1704, 1487, 2020, 2035, 2044-2045, 2071, 2074, 2079-2082, 2094, 2096, 2063

Landholding Agency: Navy

Property Number: 77200520012

Status: Excess

Reason: Secured Area

Land (by State)

California

Trailer Space

Naval Base

San Diego Co: CA

Landholding Agency: Navy

Property Number: 77200520013

Status: Unutilized

Reason: Secured Area

[FR Doc. 05-9832 Filed 5-19-05; 8:45 am]

BILLING CODE 4210-29-M